DEPARTMENT OF LABOR

Employment and Training Administration

[TA-W-53,963]

YKK (USA), Inc., Macon, GA; Notice of Termination of Investigation

Pursuant to section 221 of the Trade Act of 1974, as amended, an investigation was initiated on January 8, 2004, in response to a petition filed by workers at YKK (USA), Inc., Macon, Georgia.

The petition has been deemed invalid. The petitioners worked in three separate subdivisions of the firm.

Consequently, further investigation would serve no purpose, and the investigation has been terminated.

Signed at Washington, DC, this 13th day of February, 2004.
Linda G. Poole,
Certifying Officer, Division of Trade Adjustment Assistance.

[FR Doc. 04-4973 Filed 3-4-04; 8:45 am]

BILLING CODE 4510-30-P